OFFICE OF PERSONNEL MANAGEMENT

Excepted Service

AGENCY: Office of Personnel Management (OPM).

ACTION: Notice.

SUMMARY: This notice identifies Schedule A, B, and C appointing authorities applicable to a single agency that were established or revoked from August 1, 2020 to August 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2020.

Schedule B

No Schedule B Authorities to report during August 2020.

Schedule C

The following Schedule C appointing authorities were approved during August 2020.

Agency name | Organization name | Position title | Authorization No. | Effective date
DEPARTMENT OF AGRICULTURE | Agricultural Marketing Service | Chief of Staff | DA200081 | 08/22/2020
DEPARTMENT OF COMMERCE | Bureau of Industry and Security | Special Advisor | DC200104 | 08/12/2020
COMMISSION ON CIVIL RIGHTS | Office of Staff Members | Special Assistant | CC200001 | 08/07/2020
| Office of Commissioners | Special Assistant | CC200002 | 08/07/2020
DEPARTMENT OF DEFENSE | Office of the Assistant Secretary of Defense (Legislative Affairs) | Special Assistant | DD200222 | 08/31/2020
| Office of the Under Secretary of Defense (Acquisition and Sustainment) | Special Assistant (2) | DD200218 DD200231 | 08/06/2020 08/25/2020
| Office of the Under Secretary of Defense (Policy) | Special Assistant | DD200245 | 08/25/2020
| Washington Headquarters Services | Defense Fellow (2) | DD200229 DD200228 | 08/14/2020 08/20/2020
DEPARTMENT OF THE ARMY | Office Assistant Secretary Army (Civil Works) | Special Assistant(Civil Works) | DW200035 | 08/06/2020
DEPARTMENT OF EDUCATION | Office of the General Counsel | Deputy General Counsel | DB200069 | 08/14/2020
| Office of Planning, Evaluation and Policy Development | Deputy Director, Office of Educational Technology | DB200068 | 08/17/2020
DEPARTMENT OF ENERGY | Office of the Assistant Secretary for Congressional and Intergovernmental Affairs | Deputy Assistant Secretary for Senate Affairs Associate Deputy Assistant Secretary for Intergovernmental and External Affairs | DE200112 DE200146 | 08/06/2020 08/22/2020
| Office of the Assistant Secretary for Energy Efficiency and Renewable Energy | Program Manager | DE200179 | 08/07/2020
| Office of the Assistant Secretary for International Affairs | Special Advisor | DE200150 | 08/07/2020
| Office of Cybersecurity, Energy Security and Emergency Response | Senior Advisor | DE200183 | 08/22/2020
| Office of Management | Advance Lead | DE200133 | 08/06/2020
| Office of the Secretary | Special Advisor | DE200108 | 08/07/2020
ENVIRONMENTAL PROTECTION AGENCY | Office of Public Affairs Office of the Assistant Administrator for Air and Radiation | Press Assistant Senior Advisor | EP200089 EP200099 | 08/22/2020 08/06/2020
| Office of the Assistant Administrator for Mission Support | Deputy Assistant Administrator for the Office of Mission Support | EP200085 | 08/06/2020
| Office of the Associate Administrator for Congressional and Intergovernmental Relations | Congressional Relations Specialist | EP200080 | 08/22/2020
| Region VI—Dallas, Texas | Special Assistant | EP200094 | 08/22/2020
FEDERAL HOUSING FINANCE AGENCY | Office of the Director | Special Advisor | HA200004 | 08/13/2020
GENERAL SERVICES ADMINISTRATION | Office of Congressional and Intergovernmental Affairs | Congressional Policy Analyst | GS200040 | 08/07/2020
DEPARTMENT OF HEALTH AND HUMAN SERVICES | Office of the Deputy Secretary Office of Intergovernmental and External Affairs | Special Assistant External Affairs Specialist | DH200127 DH200164 | 08/07/2020 08/22/2020
| Centers for Disease Control and Prevention | Special Assistant | DH200173 | 08/31/2020
DEPARTMENT OF HOMELAND SECURITY | Office of United States Citizenship and Immigration Services | Deputy Chief of Staff | DM200328 | 08/23/2020
DEPARTMENT OF HOUSING AND URBAN DEVELOPMENT | Office of Housing | Special Advisor | DU200147 | 08/22/2020
| Office of the Secretary | Special Assistant | DU200149 | 08/25/2020
DEPARTMENT OF JUSTICE | Office of Civil Rights Division | Senior Counsel | DJ200135 | 08/07/2020
| Office of Justice Programs | Special Assistant | DJ200150 | 08/26/2020
DEPARTMENT OF LABOR | Office of Congressional and Intergovernmental Affairs | Legislative Officer | DL200150 | 08/01/2020
| Office of Employee Benefits Security Administration | Economist | DL200165 | 08/13/2020
| Bureau of International Labor Affairs | Senior Counselor | DL200168 | 08/17/2020
NATIONAL ENDOWMENT FOR THE HUMANITIES | National Endowment for the Humanities | Congressional Affairs Specialist Strategic Advisor | NH200005 NH200004 | 08/13/2020 08/17/2020
OFFICE OF MANAGEMENT AND BUDGET | Office of the General Counsel | Confidential Assistant | BO200045 | 08/28/2020
DEPARTMENT OF STATE | Bureau of Economic and Business Affairs | General Counsel | DS200085 | 08/01/2020
DEPARTMENT OF THE TREASURY | Office of the Assistant Secretary (Public Affairs) | Director, Public Affairs | DY200126 | 08/03/2020
| Secretary of the Treasury | Special Advisor | DY200124 | 08/26/2020

The following Schedule C appointing authorities were revoked during August 2020.

Agency name | Organization name | Position title | Request No. | Date vacated
DEPARTMENT OF JUSTICE | Office of Legislative Affairs | Confidential Assistant | DJ180153 | 08/15/2020

Authority: 5 U.S.C. 3301 and 3302; E.O. 10577, 3 CFR, 1954-1958 Comp., p. 218.

Office of Personnel Management.
Alexys Stanley,
Regulatory Affairs Analyst.

[FR Doc. 2021-02260 Filed 2-3-21; 8:45 am]

BILLING CODE 6325-39-P